DEPARTMENT OF THE TREASURY

Public Input on Expanding Access to Credit Through Online Marketplace Lending

AGENCY: Office of the Undersecretary for Domestic Finance, Department of the Treasury.

ACTION: Notice; extension of comment period.

SUMMARY: On July 20, 2015, the Office of the Undersecretary for Domestic Finance (the Office) published the Request for Information (RFI) “Public Input on Expanding Access to Credit Through Online Marketplace Lending,” which states that comments on the RFI must be submitted on or before August 31, 2015. The Office has determined that an extension of the comment period through September 30, 2015 is appropriate.

DATES: Comments must be received not later than September 30, 2015.

ADDRESSES: You may submit comments by any of the methods identified in the RFI. Please submit your comments using only one method.

FOR FURTHER INFORMATION CONTACT: For general inquiries, submission process questions or any additional information, please email Marketplace_Lending@treasury.gov or call (202) 622-1083. All responses to this Notice and Request for Information should be submitted via http://www.regulations.gov to ensure consideration. If you use a telecommunications device for the deaf (TDD) or a text telephone (TTY), call the Federal Relay Service (FRS), toll free, at 1-800-877-8339.

SUPPLEMENTARY INFORMATION: On July 20, 2015, the Office published the RFI,¹ seeking public comment on (i) the various business models of and products offered by online marketplace lenders to small businesses and consumers; (ii) the potential for online marketplace lending to expand access to credit to historically underserved market segments; and (iii) how the financial regulatory framework should evolve to support the safe growth of this industry. The RFI states that comments must be submitted on or before August 31, 2015. The Office has determined that an extension of the comment period through September 30, 2015, is appropriate in order to provide the public more time to review, consider, and comment on the RFI.

¹ Public Input on Expanding Access to Credit Through Online Marketplace Lending, 80 FR 42,866 (July 20, 2015).

Dated: August 11, 2015.
David G. Clunie,
Executive Secretary.

[FR Doc. 2015-20394 Filed 8-17-15; 8:45 am]

BILLING CODE P